DEPARTMENT OF THE INTERIOR

National Park Service

National Register of Historic Places; Notification of Pending Nominations and Related Actions

Nominations for the following properties being considered for listing or related actions in the National Register were received by the National Park Service before May 1, 2010. Pursuant to section 60.13 of 36 CFR part 60, written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by June 9, 2010.

Before including your address, phone number, e-mail address, or other personal identifying information in your comment, you should be aware that your entire comment—including your personal identifying information-may be made publicly available at any time. While you can ask us in your comment to withhold your personal identifying information from public review, we cannot guarantee that we will be able to do so.

Paul Lusignan,
Acting Chief, National Register of Historic Places/National Historic Landmarks Program.

ARIZONA

Maricopa County

Brentwood Historic District, (Residential Subdivisions and Architecture in Central Phoenix, 1870-1963), Roughly bounded by Brill St. to the N, 20th St. to the E, Culver St. to the S, 16th St. to the W, Phoenix, 10000320

Campus Vista Historic District, (Residential Subdivisions and Architecture in Central Phoenix, 1870-1963), Roughly bounded by Thomas Rd. and Flower St., 7th and 11th Aves and Flower St., and Osborn Rd. and 10th and 15th Aves., Phoenix, 10000321

East Evergreen Historic District, (Residential Subdivisions and Architecture in Central Phoenix, 1870-1963, MPS), Roughly bounded by McDowell Rd., 3rd St., 7th St., and Wiletta St., Phoenix, 10000322

Encanto Manor Historic District, (Residential Subdivisions and Architecture in Central Phoenix, 1870-1963, MPS), Roughly bounded by 7th and 15th Aves and Thomas Rd.. and Edgemont Ave., Phoenix, 10000323

Encanto Vista Historic District, (Residential Subdivisions and Architecture in Central Phoenix, 1870-1963, MPS), Roughly bounded by 7th Ave., Encanto Blvd., Windsor Ave., and Encanto Park Municipal Golf Course, Phoenix, 10000324

Garfield Historic District, (Residential Subdivisions and Architecture in Central Phoenix, 1870-1963, MPS), Roughly bounded by 7th St. on the W, 16th St. , on the E, Roosevelt St. on the N, and Van Buren St. on the S, Phoenix, 10000325

Los Olivos Historic District, (Residential Subdivisions and Architecture in Central Phoenix, 1870-1963, MPS), The 300 block of E Monte Vista Rd., Phoenix, 10000326

North Garfield Historic District, (Residential Subdivisions and Architecture in Central Phoenix, 1870-1963, MPS), Roughly bounded by 7th St on the W, 16th St on the E, Roosevelt St. on the S, and Interstate 10 on the N, Phoenix, 10000327

Villa Verde Plat A and Villa Verde Plat B, (Residential Subdivisions and Architecture in Central Phoenix, 1870-1963, MPS), Roughly bounded by Monte Vista Rd., Granada Rd, 19th Ave., and 20th Ave., Phoenix, 10000328

Woodlea Historic District, (Residential Subdivisions and Architecture in Central Phoenix, 1870-1963, MPS), Roughly bounded by Glenrosa Ave. and Mackenzie Dr. on the N and S, and 9th Ave. on the E and W, Phoenix, 10000329

Yaple Historic District, (Residential Subdivisions and Architecture in Central Phoenix, 1870-1963, MPS), Roughly bounded by 3rd and 7th Aves and Turney and Minnezona Aves, Phoenix, 10000330

ARKANSAS

Washington County

Butterfield Overland Mail Route Segment, Bugscuffle Rd. S of Strickler and Old Cove City Rd. N of Chester, Strickler, 10000347

CONNECTICUT

Fairfield County

Nathaniel Witherell Historic District, 70 Parsonage Rd., Greenwich, 10000346

Hartford County

North-west School, 1240 Albany Ave., Hartford, 10000339

FLORIDA

Hillsborough County

Upper North Franklin Street Commercial District, Bounded by E Oak Ave., N Florida Ave., Kay St., & N Tampa St., Tampa, 10000344

IOWA

Mills County

West Oak Forest Earthlodge Site, (Archeological Resources of the Central Plains Tradition in the Loess Hills Region of Iowa MPS); ADDRESS RESTRICTED, Glenwood, 10000342

Plymouth County

Kimball Village, (Archaeological Resources of Initial Variant of the Middle Missouri Tradition in Iowa MPS); ADDRESS RESTRICTED, Westfield, 10000343

NEW YORK

Columbia County

Forth House, 2751 US RTE 9, Livingston, 10000331

Silvernail Homestead, 383 Poole Hill Rd, Ancram, 10000332

Erie County

St. Andrew's Episcopal Church, 3105 Main St., Buffalo, 10000333

Niagara County

Holy Trinity Roman Catholic Church Complex, 1419 Falls St., Niagara Falls, 10000334

Onondaga County

Olivet Chapel, 201 W Main St., Goshen, 10000336

St Paul's Armenian Apostolic Church, 310 N Geddes St., Syracuse, 10000335

Suffolk County

Union Savings Bank, 62 S Ocean Dr., Patchogue, 10000337

Westchester County

Walter's Hot Dog Stand, 937 Palmer Ave., Mamaroneck, 10000338

SOUTH CAROLINA

McCormick County

Hopewell Rosenwald School, Adjacent to 253 Hopewell Church Road (SC Sec RD 33-12), Clarks Hill, 10000340

Saluda County

Ridge Hill High School, 206 Ridge Hill Dr, Ridge Spring, 10000341

WISCONSIN

Sauk County

Point of Rocks, US HWY 12 approximately .85 mi N of Ski Hi Rd. and .25 mi S of Wisconsin HWY 159, Baraboo, 10000345

Request for REMOVAL has been made for the following resources:

LOUISIANA

Ascension Parish

St. Joseph School, LA 22 and 44 Burnside, 88002651

[FR Doc. 2010-12480 Filed 5-24-10; 8:45 am]

BILLING CODE 4312-51-P